COMMISSION ON CIVIL RIGHTS

Agenda and Notice of Public Meeting of the Florida Advisory Committee

Notice is hereby given, pursuant to the provisions of the rules and regulations of the U.S. Commission on Civil Rights, that a meeting of the Florida Advisory Committee to the Commission will convene at 1 p.m. and YBrickell, Miami, Florida 33131. The purpose of the meeting is to provide new member orientation, discuss affirmative action in Florida, and the Governor's “One Florida Plan.”

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, April 17, 2000.
Lisa M. Kelly,
Special Assistant to the Staff Director.

[FR Doc. 00-10044 Filed 4-21-00; 8:45 am]

BILLING CODE 6335-01-P